DEPARTMENT OF THE INTERIOR

Bureau of Indian Affairs

Notice of Intent To Prepare an Environmental Impact Statement for the Proposed Jamul Indian Village 101 Acre Fee-to-Trust Transfer and Casino Project, San Diego County, CA

AGENCY: Bureau of Indian Affairs, Interior.

ACTION: Notice.

SUMMARY: This notice advises the public that the Bureau of Indian Affairs (BIA), with the cooperation of the Jamul Indian Village and the National Indian Gaming Commission (NIGC), intends to gather information necessary for preparing an Environmental Impact Statement (EIS) for the proposed 101 acre Fee-to-Trust Transfer and Casino Project in San Diego County, California. The purpose of the proposed action is to help meet the land base and economic needs of the Jamul Indian Village.

DATES: Comments on the scope and implementation of this proposal must arrive by April 22, 2002.

ADDRESSES: Mail or hand carry written comments to Ronald M. Jaeger, Regional Director, Pacific Region, Bureau of Indian Affairs, 2800 Cottage Way, Sacramento, California 95825-1846.

FOR FURTHER INFORMATION CONTACT: William Allan, (916) 978-6043.

SUPPLEMENTARY INFORMATION: The Jamul Indian Village is located in eastern San Diego County, approximately one mile south of the community of Jamul. The project area is bordered on the north by Melody Lane, on the west by vacant and residentially developed land, on the south by vacant land and on the east by State Route 94. State Route 94 provides direct access to downtown San Diego, approximately 20 miles to the west, where it intersects with Interstate 5.

The Jamul Indian Village proposes that 101 acres of land be taken into trust, that a casino be constructed on existing trust land, and that parking and other facilities supporting the casino be constructed on the 101 acre trust acquisition. The gaming facility will be managed by Lakes Kean Argovitz Resorts-California, LLC (LKAR-CA), on behalf of the tribal government, pursuant to the terms of the management agreement between the tribal government and LKAR-CA. The BIA will serve as the Lead Agency for National Environmental Policy Act compliance. The NIGC, which is responsible for approval of the gaming management contract, will be a Cooperating Agency.

The BIA released an Environmental Assessment (EA) on the proposed action for public comment on February 1, 2001. The EA was revised in response to public comment and released as a final EA, with a Finding of No Significant Impact (FONSI), on November 16, 2001. The FONSI was based on, among other factors, mitigation of potentially significant impacts to traffic on highway 94. After three parties appealed the FONSI, the BIA determined the mitigation proposed for traffic to be too provisional, hence an EIS would be required.

The BIA and NIGC propose to use the extensive public comments received during the public review of the EA as scoping comments for the EIS. Areas of environmental concern identified include, in addition to traffic, threatened and endangered species, wildlife habitat and conservation areas, wastewater disposal, air quality, and socio-economic impacts. The range of issues to be addressed may be further expanded based on comments received during the scoping process.

Authority

This notice is published in accordance with section 1503.1 of the Council on Environmental Quality Regulations (40 CFR Parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.1.

Dated: March 14, 2002.
Neal A. McCaleb,
Assistant Secretary—Indian Affairs.

[FR Doc. 02-7948 Filed 4-1-02; 8:45 am]

BILLING CODE 4310-W7-P